DEPARTMENT OF STATE

[Public Notice: 10680]

Notice of Public Meeting

The Department of State will conduct an open meeting at 11:00 a.m. on Wednesday, March 20, in Room 7M15-01, United States Coast Guard Headquarters, 2703 Martin Luther King Jr. Ave. SE, Washington, DC 20593-7213. The primary purpose of the meeting is to prepare for the 106th session of the International Maritime Organization's (IMO) Legal Committee to be held at the IMO Headquarters, United Kingdom, March 27-29, 2019.

The agenda items to be considered include:

—Facilitation of the entry into force and harmonized interpretation of the 2010 HNS Protocol

—Provision of financial security in case of abandonment of seafarers

—Fair treatment of seafarers in the event of a maritime accident

—Measures to prevent unlawful practices associated with the fraudulent registration and fraudulent registries of ships

—Regulatory scoping exercise and gap analysis of conventions emanating from the Legal Committee with respect to Maritime Autonomous Surface Ships (MASS)

—Advice and guidance in connection with the implementation of IMO instruments

—Piracy

—Any other business

Members of the public may attend this meeting up to the seating capacity of the room. Upon request to the meeting coordinator, members of the public may also participate via teleconference, up to the capacity of the teleconference phone line. To access the teleconference line, participants should call (202) 475-4000 and use Participant Code: 796 771 84. To facilitate the building security process, and to request reasonable accommodation, those who plan to attend should contact the meeting coordinator, Stephen Hubchen, by email at Stephen.K.Hubchen@uscg.mil, by phone at (202) 372-1198, or in writing at 2703 Martin Luther King Jr. Ave. SE, Stop 7509, Washington, DC 20593-7509 not later than March 14, 2019, four business days prior to the meeting. Requests made after March 14, 2019 might not be able to be accommodated, and same day requests will not be accommodated due to the building's security process. Please note that due to security considerations, two valid, government issued photo identifications must be presented to gain entrance to the Coast Guard Headquarters. Coast Guard Headquarters is accessible by taxi, public transportation, and privately owned conveyance (upon request). In the case of inclement weather where the U.S. government is closed or delayed, a public meeting may be conducted virtually by calling (202) 475-4000, Participant code: 796 771 84. The meeting coordinator will confirm whether the virtual public meeting will be utilized. Members of the public can find out whether the U.S. government is delayed or closed by visiting www.opm.gov/status/. Additional information regarding this and other IMO public meetings may be found at: www.uscg.mil/imo.

Joel C. Coito,
Coast Guard Liaison Officer, Office of Ocean and Polar Affairs, Department of State.

[FR Doc. 2019-02822 Filed 2-19-19; 8:45 am]

BILLING CODE 4710-09-P